FEDERAL ELECTION COMMISSION

Sunshine Act Notices

Date and Time: Tuesday, April 13, 2010, at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C. Matters concerning participation in civil actions or proceedings or arbitration. Internal personnel rules and procedures or matters affecting a particular employee.

* * * * *

Date and Time: Wednesday, April 14, 2010, at 11 a.m.

Place: 999 E Street, NW., Washington, DC (Ninth Floor)

Status: This hearing will be open to the public.

Audit Hearing: Biden for President, Inc.

Individuals who plan to attend and require special assistance, such as sign language interpretation or other reasonable accommodations, should contact Darlene Harris, Acting Commission Secretary, at (202) 694-1040, at least 72 hours prior to the hearing date.

PERSON TO CONTACT FOR INFORMATION: Judith Ingram, Press Officer, Telephone: (202) 694-1220.

Darlene Harris,
Acting Secretary of the Commission.

[FR Doc. 2010-8185 Filed 4-9-10; 8:45 am]

BILLING CODE 6715-01-M